DEPARTMENT OF AGRICULTURE

Animal and Plant Health Inspection Service

[Docket No. 02-081-1]

Availability of Draft Pest Risk Assessment for the Importation of Clementines, Mandarins, and Tangerines From Chile

AGENCY: Animal and Plant Health Inspection Service, USDA.

ACTION: Notice of availability and request for comments.

SUMMARY: We are advising the public of the availability of a draft pesk risk assessment concerning the importation of clementines, mandarins, and tangerines from Chile. This draft pest risk assessment is accompanied by a risk management document entitled, “Measures Suggested for Quarantine Pest Risk Management in Clementines, Mandarin Oranges and Tangerines Exported from Chile to the Market of the United States of America.” These documents have been prepared in relation to a proposed rule currently under consideration that would allow the importation of clementines, mandarins, and tangerines from Chile into the United States. We are making the draft pest risk assessment and the risk management document available to the public for review and comment.

DATES: We will consider all comments that we receive on or before December 23, 2002.

ADDRESSES: You may submit comments by postal mail/commercial delivery or by e-mail. If you use postal mail/commercial delivery, please send four copies of your comment (an original and three copies) to: Docket No. 02-081-1, Regulatory Analysis and Development, PPD, APHIS, Station 3C71, 4700 River Road Unit 118, Riverdale, MD 20737-1238. Please state that your comment refers to Docket No. 02-081-1. If you use e-mail, address your comment to regulations@aphis.usda.gov. Your comment must be contained in the body of your message; do not send attached files. Please include your name and address in your message and “Docket No. 02-081-1” on the subject line.

You may read any comments that we receive on the draft pest risk assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Ronald A. Sequeira, National Science Program Leader, Risk & Pathway Analysis, Center for Plant Health Science and Technology, PPQ, APHIS, 1017 Main Campus Drive, Suite 2500, Raleigh, NC 27606-5202; (919) 513-2128.

SUPPLEMENTARY INFORMATION:

Background

The regulations in “Subpart-Fruits and Vegetables” (7 CFR 319.56 through 319.56-8, referred to below as the regulations), prohibit or restrict the importation of fruits and vegetables into the United States from certain parts of the world to prevent the introduction and dissemination of plant pests, including fruit flies, that are new to or not widely distributed within the United States.

At the request of the Government of the Republic of Chile, the Animal and Plant Health Inspection Service (APHIS) is considering amending the regulations to allow the importation of clementines, mandarins, and tangerines from Chile into the United States. To evaluate the risks associated with the importation of clementines, mandarins, and tangerines from Chile, a draft pesk risk assessment entitled, “Importation of Fresh Commercial Citrus Fruit: Clementine (Citrus reticulata Blanco var. “Clementine”), Mandarin (Citrus reticulata Blanco), and Tangerine (Citrus reticulata Blanco) from Chile into the United States: A Pathway Initiated Plant Pest Risk Assessment” (Revised July 2002), has been prepared. We are making the draft pest risk assessment available to the public for review and comment.

In addition to the draft pest risk assessment, we are also making a risk management document entitled, “Measures Suggested for Quarantine Pest Risk Management in Clementines, Mandarin Oranges and Tangerines Exported from Chile to the Market of the United States of America” (March 2002), available for comment. This risk management document was prepared in Chile by the Fundacion para el Desarrollo Fruiticola. We expect that we would consider the risk management measures examined in that document during the development of any proposed rule concerning the importation of clementines, mandarins, and tangerines from Chile.

You may view the draft pest risk assessment and the risk management document on the Internet at http://www.aphis.usda.gov/ppq/pra/, or in our reading room (information on the location and hours of the reading room is provided under the heading ADDRESSES at the beginning of this notice). You may also request a copy of either document from the person listed under FOR FURTHER INFORMATION CONTACT.

Authority: 7 U.S.C. 166, 450, 7711-7714, 7718, 7731, 7732, and 7751-7754; 21 U.S.C. 136 and 136a; 7 CFR 2.22, 2.80, and 371.3.

Done in Washington, DC, this 16th day of October 2002.
Peter Férnandez,
Acting Administrator, Animal and Plant Health Inspection Service.

[FR Doc. 02-26813 Filed 10-21-02; 8:45 am]

BILLING CODE 3410-34-P